DEPARTMENT OF TRANSPORTATION

Federal Aviation Administration

14 CFR Part 39

[Docket No. 96-NM-90-AD]

RIN 2120-AA64

Airworthiness Directives; Gulfstream Model G-1159 (G-II), G-1159A (G-III), and G-1159B (G-IIB) Series Airplanes

AGENCY: Federal Aviation Administration, DOT.

ACTION: Proposed rule; withdrawal.

SUMMARY: This action withdraws a notice of proposed rulemaking (NPRM) that proposed a new airworthiness directive (AD), applicable to all Gulfstream Model G-1159 (G-II), G-1159A (G-III), and G-1159B (G-IIB) series airplanes. That action would have required inspections to detect cracking and/or corrosion at various locations of the wings, and modification of cracked and/or corroded parts. Since the issuance of the NPRM, the Federal Aviation Administration (FAA) has received new data verifying that all affected airplanes have complied with the requirements proposed by that NPRM. Accordingly, the proposed rule is withdrawn.

FOR FURTHER INFORMATION CONTACT: Neil Berryman, Aerospace Engineer, Systems and Flight Test Branch, ACE-116A, FAA, Small Airplane Directorate, Atlanta Aircraft Certification, One Crown Center, 1895 Phoenix Boulevard, suite 450, Atlanta, Georgia 30349; telephone (770) 703-6098; fax (770) 703-6097.

SUPPLEMENTARY INFORMATION: A proposal to amend part 39 of the Federal Aviation Regulations (14 CFR part 39) to add a new airworthiness directive (AD), applicable to all Gulfstream Model G-1159 (G-II), G-1159A (G-III), and G-1159B (G-IIB) series airplanes, was published in the Federal Register as a Notice of Proposed Rulemaking (NPRM) on May 8, 1996 (61 FR 20764). The proposed rule would have required inspections to detect cracking and/or corrosion at various locations of the wings, and modification of cracked and/or corroded parts. That action was prompted by a report indicating that cracks, caused by stress corrosion, were found at various locations at buttock line (BL) 0 to BL 19 of the lower wing plank. The proposed actions were intended to prevent such stress corrosion, which could result in structural failure of the wing under certain load conditions.

Actions that Occurred Since the NPRM Was Issued

Since the issuance of that NPRM, Gulfstream has provided evidence to the FAA that the actions proposed in the NPRM have been accomplished on all affected airplanes. (Evidence was provided to the FAA in Gulfstream's letter of May 30, 2000, which is filed in the Rules Docket.)

FAA's Conclusions

Upon further consideration, the FAA has determined that requiring the modification specified in the NPRM (Rules Docket 96-NM-90-AD) is unnecessary since the unsafe condition no longer exists. Accordingly, the proposed rule is hereby withdrawn.

Withdrawal of this notice of proposed rulemaking constitutes only such action, and does not preclude the agency from issuing another notice in the future, nor does it commit the agency to any course of action in the future.

Regulatory Impact

Since this action only withdraws a notice of proposed rulemaking, it is neither a proposed nor a final rule and therefore is not covered under Executive Order 12866, the Regulatory Flexibility Act, or DOT Regulatory Policies and Procedures (44 FR 11034, February 26, 1979).

List of Subjects in 14 CFR Part 39

Air transportation, Aircraft, Aviation safety, Safety.

The Withdrawal

Accordingly, the notice of proposed rulemaking, Docket 96-NM-90-AD, published in the Federal Register on May 8, 1996 (61 FR 20764), is withdrawn.

Issued in Renton, Washington, on June 7, 2000.
Donald L. Riggin,
Acting Manager, Transport Airplane Directorate, Aircraft Certification Service.

[FR Doc. 00-14954 Filed 6-13-00; 8:45 am]

BILLING CODE 4910-13-P